DEPARTMENT OF ENERGY

Federal Energy Regulatory Commission

[Docket No. CP01-400-000]

Transcontinental Gas Pipe Line Corporation; Notice of Application

Issued July 23, 2001.

Take notice that on July 12, 2001, Transcontinental Gas Pipe Line Corporation (Applicant), P.O. Box 1396, Houston, Texas, 77251, filed in Docket No. CP01-400-000 an application pursuant to Section 7(b) of the Natural Gas Act for permission and approval to abandon the transportation of natural gas provided under Transco's Rate Schedules X-158 and X-253 for Southern Natural Gas Company (Southern). Copies of this filing are on file with the Commission and open to public inspection. This filing may be viewed at the Commission's web site at http://www.ferc.gov using the “RIMS” link, select “Docket #” and follow the instructions (call 202-208-2222 for assistance).

Applicant states that it has not transported gas pursuant to Rate Schedule X-158 since 1989 and Rate Schedule X-253 since 1994. Applicant asserts that it does not propose to abandon any facility pursuant to the authorization sought herein and that no service to any of its customers will be affected by the abandonment authorization requested herein. Further, Applicant asserts there is no outstanding imbalance due any party. By letter signed December 6, 2000 Southern has consented to the proposed abandonment.

Any person desiring to be heard or to protest this application should file a motion to intervene or protest with the Federal Energy Regulatory Commission, Washington, D.C. 20426, on or before August 10, 2001, in accordance with the requirements of the Commission's Rules of Practice and Procedure (18 CFR 385.214 or 385.211). All protests filed with the Commission will be considered by the Commission in determining the appropriate action to be taken, but will not serve to make the protestants parties to the proceeding.

Any person wishing to become a party to the proceeding or to participate as a party in any hearing therein must file a petition to intervene in accordance with the Commission's Rules. Comments, protests, and interventions may be filed electronically via the Internet in lieu of paper. See 18 CFR 385.2001(a)(1)(iii) and the instructions on the Commission's web site under “e-Filing” link.

Take further notice that, pursuant to the authority contained in and subject to the jurisdiction conferred upon the Commission by Sections 7 and 15 of the Natural Gas Act and the Commission's Rules of Practice and Procedure, a hearing will be held without further notice before the Commission on this application if no petition to intervene is filed within the time required herein. At that time, the Commission, on its own review of the matter will determine whether granting the abandonment is required by the public convenience and necessity. If a petition for leave to intervene is timely filed, or if the Commission on its motion believes that a formal hearing is required, further notice of such hearing will be duly given.

Under the procedure herein provided for, unless otherwise advised, it will be unnecessary for Applicant to appear or be represented at the hearing.

David P. Boergers,
Secretary.

[FR Doc. 01-18773 Filed 7-26-01; 8:45 am]

BILLING CODE 6717-01-P